DEPARTMENT OF THE INTERIOR

Bureau of Land Management

[LLAZ956000.L14200000.BJ0000.241A]

Notice of Filing of Plats of Survey; Arizona

AGENCY: Bureau of Land Management, Interior.

ACTION: Notice of filing of plats of survey; Arizona.

SUMMARY: The plats of survey of the described lands were officially filed in the Arizona State Office, Bureau of Land Management, Phoenix, Arizona, on dates indicated.

SUPPLEMENTARY INFORMATION:

The Gila and Salt River Meridian, Arizona:

The plat representing the establishment of the southwest and northwest township corners, Township 30 North, Range 6 East, accepted September 9, 2010, and officially filed September 15, 2010, for Group 1059, Arizona.

This plat was prepared at the request of the Bureau of Indian Affairs, Navajo Regional Office.

The plat representing the establishment of the corner of sections 1, 2, 35 and 36, and the corner of sections 5, 6, 31 and 32, on the boundary between Townships. 31 and 32 North, Range 6 East and an electronic control monument, Township 31 North, Range 6 East, accepted September 9, 2010, and officially filed September 15, 2010, for Group 1059, Arizona.

This plat was prepared at the request of the Bureau of Indian Affairs, Navajo Regional Office.

The plat of Township 32 North, Range 6 East, representing the establishment of the corner of sections 1, 6, 7 and 12, on the boundary between Townships 32 North, Ranges 5 and 6 East, accepted September 9, 2010, and officially filed September 15, 2010, for Group 1059, Arizona.

This plat was prepared at the request of the Bureau of Indian Affairs, Navajo Regional Office.

The plat representing the establishment of the northwest township corner, Township 32 ½ North, Range 6 East, accepted October 29, 2010, and officially filed November 24, 2010, for Group 1059, Arizona.

This plat was prepared at the request of the Bureau of Indian Affairs, Navajo Regional Office.

The plat of Township 33 North, Range 6 East, representing the establishment of the northwest township corner and an electronic control monument, and the corner of sections 19, 24, 25 and 30, on the boundary between Townships 33 North, Ranges 5 and 6 East, accepted October 29, 2010, and officially filed November 24, 2010, for Group 1059, Arizona.

This plat was prepared at the request of the Bureau of Indian Affairs, Navajo Regional Office.

The plat representing the establishment of the northeast and northwest township corners and an electronic control monument, Township 30 North, Range 7 East, accepted September 9, 2010, and officially filed September 15, 2010, for Group 1059, Arizona.

This plat was prepared at the request of the Bureau of Indian Affairs, Navajo Regional Office.

The plat of Township 31 North, Range 7 East, representing the establishment of the northeast township corner and an electronic control monument, and the corner of sections 5, 6, 31 and 32, on the boundary between Townships 31 and 32 North, Range 7 East, accepted September 9, 2010, and officially filed September 15, 2010, for Group 1059, Arizona.

This plat was prepared at the request of the Bureau of Indian Affairs, Navajo Regional Office.

The plat representing the establishment of the northeast and northwest township corners and an electronic control monument, Township 32 North, Range 7 East, accepted September 9, 2010, and officially filed September 15, 2010, for Group 1059, Arizona.

This plat was prepared at the request of the Bureau of Indian Affairs, Navajo Regional Office.

The plat representing the establishment of the northwest township corner, Township 32 ½ North, Range 7 East, accepted October 29, 2010, and officially filed November 24, 2010, for Group 1059, Arizona.

This plat was prepared at the request of the Bureau of Indian Affairs, Navajo Regional Office.

The plat representing the establishment of the southwest and northwest township corners and an electronic control monument, Township 33 North, Range 7 East, accepted October 29, 2010, and officially filed November 24, 2010, for Group 1059, Arizona.

This plat was prepared at the request of the Bureau of Indian Affairs, Navajo Regional Office.

The plat representing the dependent resurvey of a portion of the west boundary, a portion of the subdivisional lines and a portion of the subdivision of section 7, the subdivision of section 18 and metes-and-bounds surveys in sections 7 and 18, Township 39 North, Range 7 East, accepted August 19, 2010, and officially filed August 24, 2010, for Group 1052, Arizona.

This plat was prepared at the request of the Bureau of Land Management.

The plat representing the establishment of the southwest and northwest township corners and an electronic control monument, Township 30 North, Range 8 East, accepted September 9, 2010, and officially filed September 15, 2010, for Group 1059, Arizona.

This plat was prepared at the request of the Bureau of Indian Affairs, Navajo Regional Office.

The plat representing the establishment of the northwest township corner and an electronic control monument, Township 31 North, Range 8 East, accepted September 9, 2010, and officially filed September 15, 2010, for Group 1059, Arizona.

This plat was prepared at the request of the Bureau of Indian Affairs, Navajo Regional Office.

The plat representing the establishment of the northwest township corner and an electronic control monument, Township 32 North, Range 8 East, accepted September 9, 2010, and officially filed September 15, 2010, for Group 1059, Arizona.

This plat was prepared at the request of the Bureau of Indian Affairs, Navajo Regional Office.

The plat representing the establishment of the northwest township corner, Township 32 ½ North, Range 8 East, accepted October 29, 2010, and officially filed November 24, 2010, for Group 1059, Arizona.

This plat was prepared at the request of the Bureau of Indian Affairs, Navajo Regional Office.

The plat representing the establishment of the southeast, southwest, northeast and northwest township corners and an electronic control monument, Township 33 North, Range 8 East, accepted September 9, 2010, and officially filed September 15, 2010, for Group 1059, Arizona.

This plat was prepared at the request of the Bureau of Indian Affairs, Navajo Regional Office.

The plat representing the establishment of the northwest township corner and an electronic control monument, Township 33 North, Range 9 East, accepted October 29, 2010, and officially filed November 24, 2010, for Group 1059, Arizona.

This plat was prepared at the request of the Bureau of Indian Affairs, Navajo Regional Office.

The plat representing the establishment of the northeast township corner, Township 33 ½ North, Range 9 East, accepted October 29, 2010, and officially filed November 24, 2010, for Group 1059, Arizona.

This plat was prepared at the request of the Bureau of Indian Affairs, Navajo Regional Office.

The plat representing the establishment of the northwest township corner and an electronic control monument, Township 34 North, Range 9 East, accepted January 24, 2011, and officially filed January 27, 2011, for Group 1059, Arizona.

This plat was prepared at the request of the Bureau of Indian Affairs, Navajo Regional Office.

The plat representing the establishment of the northwest township corner and an electronic control monument, Township 35 North, Range 9 East, accepted January 24, 2011, and officially filed January 27, 2011, for Group 1059, Arizona.

This plat was prepared at the request of the Bureau of Indian Affairs, Navajo Regional Office.

The plat representing the establishment of the northwest township corner and an electronic control monument, Township 36 North, Range 9 East, accepted January 24, 2011, and officially filed January 27, 2011, for Group 1059, Arizona.

This plat was prepared at the request of the Bureau of Indian Affairs, Navajo Regional Office.

The plat representing the establishment of the northeast township corner, Township 33 ½ North, Range 10 East, accepted January 3, 2011, and officially filed January 7, 2011, for Group 1059, Arizona.

This plat was prepared at the request of the Bureau of Indian Affairs, Navajo Regional Office.

The plat representing the establishment of the northeast and northwest township corners and an electronic control monument, Township 34 North, Range 10 East, accepted January 3, 2011, and officially filed January 7, 2011, for Group 1059, Arizona.

This plat was prepared at the request of the Bureau of Indian Affairs, Navajo Regional Office.

The plat representing the establishment of the northeast and northwest township corners and an electronic control monument, Township 35 North, Range 10 East, accepted January 3, 2011, and officially filed January 7, 2011, for Group 1059, Arizona.

This plat was prepared at the request of the Bureau of Indian Affairs, Navajo Regional Office.

The plat representing the establishment of the northeast and northwest township corners and an electronic control monument, Township 36 North, Range 10 East, accepted January 3, 2011, and officially filed January 7, 2011, for Group 1059, Arizona.

This plat was prepared at the request of the Bureau of Indian Affairs, Navajo Regional Office.

The plat representing the establishment of an electronic control monument, Township 33 North, Range 11 East, accepted January 24, 2011, and officially filed January 27, 2011, for Group 1059, Arizona.

This plat was prepared at the request of the Bureau of Indian Affairs, Navajo Regional Office.

The plat representing the geographic positions of township corners, Township 33½ North, Range 11 East, accepted January 24, 2011, and officially filed January 27, 2011, for Group 1059, Arizona.

This plat was prepared at the request of the Bureau of Indian Affairs, Navajo Regional Office.

The plat representing the establishment of an electronic control monument, Township 34 North, Range 11 East, accepted January 24, 2011, and officially filed January 27, 2011, for Group 1059, Arizona.

This plat was prepared at the request of the Bureau of Indian Affairs, Navajo Regional Office.

The plat representing the establishment of an electronic control monument, Township 35 North, Range 11 East, accepted January 24, 2011, and officially filed January 27, 2011, for Group 1059, Arizona.

This plat was prepared at the request of the Bureau of Indian Affairs, Navajo Regional Office.

The plat representing the establishment of an electronic control monument, Township 36 North, Range 11 East, accepted January 24, 2011, and officially filed January 27, 2011, for Group 1059, Arizona.

This plat was prepared at the request of the Bureau of Indian Affairs, Navajo Regional Office.

The plat representing the establishment of the northeast and northwest township corners and an electronic control monument, Township 33 North, Range 12 East, accepted November 29, 2010, and officially filed December 1, 2010, for Group 1059, Arizona.

This plat was prepared at the request of the Bureau of Indian Affairs, Navajo Regional Office.

The plat representing the establishment of the northeast and northwest township corners, Township 33½ North, Range 12 East, accepted November 29, 2010, and officially filed December 1, 2010, for Group 1059, Arizona.

This plat was prepared at the request of the Bureau of Indian Affairs, Navajo Regional Office.

The plat representing the establishment of the northeast and northwest township corners and an electronic control monument, Township 34 North, Range 12 East, accepted November 29, 2010, and officially filed December 1, 2010, for Group 1059, Arizona.

This plat was prepared at the request of the Bureau of Indian Affairs, Navajo Regional Office.

The plat representing the establishment of the northeast and northwest township corners and an electronic control monument, Township 35 North, Range 12 East, accepted November 29, 2010, and officially filed December 1, 2010, for Group 1059, Arizona.

This plat was prepared at the request of the Bureau of Indian Affairs, Navajo Regional Office.

The plat representing the establishment of the northeast and northwest township corners and an electronic control monument, Township 36 North, Range 12 East, accepted November 29, 2010, and officially filed December 1, 2010, for Group 1059, Arizona.

This plat was prepared at the request of the Bureau of Indian Affairs, Navajo Regional Office.

The plat representing the establishment of the southeast and northeast township corners, Township 33 North, Range 12½ East, accepted November 29, 2010, and officially filed December 1, 2010, for Group 1059, Arizona.

This plat was prepared at the request of the Bureau of Indian Affairs, Navajo Regional Office.

The plat representing the establishment of the northeast township corner, Township 33½ North, Range 12½ East, accepted January 3, 2011, and officially filed January 7, 2011, for Group 1059, Arizona.

This plat was prepared at the request of the Bureau of Indian Affairs, Navajo Regional Office.

The plat representing the establishment of the northeast township corner, Township 34 North, Range 12½ East, accepted January 3, 2011, and officially filed January 7, 2011, for Group 1059, Arizona.

This plat was prepared at the request of the Bureau of Indian Affairs, Navajo Regional Office.

The plat representing the establishment of the northeast township corner, Township 35 North, Range 12½ East, accepted January 3, 2011, and officially filed January 7, 2011, for Group 1059, Arizona.

This plat was prepared at the request of the Bureau of Indian Affairs, Navajo Regional Office.

The plat representing the geographic positions of the township corners, Township 36 North, Range 12 ½ East, accepted January 3, 2011, and officially filed January 7, 2011, for Group 1059, Arizona.

This plat was prepared at the request of the Bureau of Indian Affairs, Navajo Regional Office.

The plat representing the dependent resurvey of the south and east boundaries and a portion of the subdivisional lines and the subdivision of sections 1 through 3 and 5 through 36, Township 22 North, Range 21 East, accepted June 8, 2010, and officially filed June 11, 2010, for Group 1064, Arizona.

This plat was prepared at the request of the Bureau of Indian Affairs, Navajo Regional Office.

The plat representing the dependent resurvey of the Ninth Standard Parallel North (south boundary) and the east, west and north boundaries and the survey of the subdivisional lines, Township 37 North, Range 30 East, accepted July 20, 2010, and officially filed July 23, 2010, for Group 1062, Arizona.

This plat was prepared at the request of the Bureau of Indian Affairs, Navajo Regional Office.

The plat (in 2 sheets) representing the dependent resurvey of the Ninth Standard Parallel North (south boundary) and the north boundary and the survey of the subdivisional lines and the subdivision of section 19 and a metes-and-bounds survey, Township 37 North, Range 31 East, accepted July 20, 2010, and officially filed July 23, 2010, for Group 1062, Arizona.

This plat was prepared at the request of the Bureau of Indian Affairs, Navajo Regional Office.

The plat (in 4 sheets) representing the dependent resurvey of a portion of the Gila and Salt River Principal Meridian (the east boundary), a portion of the south boundary, portions of General Survey Nos. 12 (Lot 39), 187 (Lot 50), 267 (Lot 49), portions of Mineral Survey Nos. 853 (Lot 52), 1058 (Lot 55), 1111, 1318, 1713, 1827, 1980, 2414, 2863, 2908, 3032 and 3764, the survey of a portion of the subdivisional lines and a metes-and-bounds survey, Township 10 North, Range 1 West, accepted August 5, 2010, and officially filed August 11, 2010, for Group 1063, Arizona.

This plat was prepared at the request of the United States Forest Service.

The plat representing the dependent resurvey of a portion of the subdivisional lines, Township 41 North, Range 15 West, accepted January 4, 2011, and officially filed January 20, 2011, for Group 1088, Arizona.

This plat was prepared at the request of the Bureau of Land Management.

The plat representing the dependent resurvey of the Base Line and a portion of the subdivisional lines and the survey of a metes-and-bounds survey in section 36, Township 1 North, Range 24 West, accepted November 15, 2010, and officially filed November 17, 2010, for Group 1084, Arizona.

This plat was prepared at the request of the Bureau of Land Management.

The plat representing the dependent resurvey of a portion of the northeast boundary of the Gila River Indian Reservation, a portion of the subdivisional lines, a portion of the subdivision of section 1 and Tract 37, and the subdivision of section 1, Township 1 South, Range 1 East, accepted December 2, 2010, and officially filed December 7, 2010, for Group 1072, Arizona.

This plat was prepared at the request of the Bureau of Indian Affairs, Western Regional Office.

The plat representing the dependent resurvey of a portion of the subdivisional lines, Township 4 South, Range 12 East, accepted August 3, 2010, and officially filed August 6, 2010, for Group 1040, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427.

Dated: February 7, 2011.
Stephen K. Hansen,
Chief Cadastral Surveyor of Arizona.

[FR Doc. 2011-3263 Filed 2-11-11; 8:45 am]

BILLING CODE 4310-32-P